DEPARTMENT OF COMMERCE

Foreign-Trade Zones Board

[Docket 60-2011, 61-2011 and 62-2011]

Foreign-Trade Zones 140 and 78 Applications for Subzone Authority Dow Corning Corporation, Hemlock Semiconductor Corporation and Hemlock Semiconductor, L.L.C.; Notice of Public Hearing and Extension of Comment Period

A public hearing will be held on the applications for subzone authority at the Dow Corning Corporation facility in Midland, Michigan (76 FR 63282-63283, 10/12/2011), the Hemlock Semiconductor Corporation facility in Hemlock, Michigan (76 FR 63282, 10/12/2011) and the Hemlock Semiconductor, L.L.C. facility in Clarksville, Tennessee (76 FR 63281-63282, 10/12/2011). The Commerce examiner will hold the public hearing on January 25, 2012 at 9:30 a.m., at the Department of Commerce, Room 4830, 1401 Constitution Ave. NW, Washington, DC 20230. Interested parties should indicate their intent to participate in the hearing and provide a summary of their remarks no later than January 18, 2012.

The comment period for the cases referenced above is being extended to February 27, 2012, to allow interested parties additional time in which to comment. Rebuttal comments may be submitted during the subsequent 15-day period, until March 13, 2012. Submissions (original and one electronic copy) shall be addressed to the Board's Executive Secretary at: Foreign-Trade Zones Board, U.S. Department of Commerce, Room 2111, 1401 Constitution Ave. NW, Washington, DC 20230.

For further information, contact Elizabeth Whiteman at Elizabeth.Whiteman@trade.gov or (202) 482-0473.

Dated: December 21, 2011.
Andrew McGilvray,
Executive Secretary.

[FR Doc. 2011-33296 Filed 12-27-11; 8:45 am]

BILLING CODE P